DEPARTMENT OF ENERGY

Environmental Management Site-Specific Advisory Board, Idaho National Engineering and Environmental Laboratory

AGENCY: Department of Energy.

ACTION: Notice of open meeting.

SUMMARY: This notice announces a meeting of the Environmental Management Site-Specific Advisory Board (EMSSAB), Idaho National Engineering and Environmental Laboratory. The Federal Advisory Committee Act (Pub. L. 92-463, 86 Stat. 770) requires that public notice of this meeting be announced in the Federal Register.

DATES: Tuesday, January 18, 2005; 8 a.m.-6 p.m.; Wednesday, January 19, 2005; 8 a.m.-5 p.m.

Opportunities for public participation will be held Tuesday, January 18, from 12:15 to 12:30 p.m. and 5:45 to 6:00 p.m.; and on Wednesday, January 19, from 11:45 a.m. to 12 noon and 4:00 to 4:15 p.m. Additional time may be made available for public comment during the presentations.

These times are subject to change, please check with the meeting facilitator to confirm these times.

ADDRESSES: Red Lion Hotel on the Falls, 475 River Parkway, Idaho Falls, ID 83402.

FOR FURTHER INFORMATION CONTACT: Ms. Peggy Hinman, INEEL Board Administrator, North Wind, Inc., P.O. Box 51174, Idaho Falls, ID 83405, Phone (208) 557-7885, or visit the Board's Internet home page at http://www.ida.net/users/cab.

SUPPLEMENTARY INFORMATION: Purpose of the Board: The purpose of the Board is to make recommendations to DOE in the areas of environmental restoration, waste management, and related activities.

Tentative Topics (agenda topics may change up to the day of the meeting; please contact Peggy Hinman for the most current agenda or visit the CAB's Internet site at www.ida.net/users/cab/):

• Alternatives to Incineration Project Plan

• Presentation from new Idaho National Laboratory contractor, Battelle Energy Alliance, regarding transition

• Role of the public in implementing the new legislation for reclassification of high-level waste

• Rebound Study Information, WAG 1, Operable Unit 1-07B, New Pump and Treat Facility (NPTF)

• Prepare a Board recommendation regarding the Proposed Consolidation of Nuclear Operations Related to Production of Radioisotope Power Systems Environmental Impact Statement (Consolidation EIS)

Public Participation: The meeting is open to the public. Written statements may be filed with the Board administrator either before or after the meeting. Individuals who wish to make oral presentations pertaining to agenda items should contact the Board Chair at the address or telephone number listed above. The request must be received five days prior to the meeting and reasonable provision will be made to include the presentation in the agenda. The Deputy Designated Federal Officer, Richard Provencher, Assistant Manager for Environmental Management, Idaho Operations Office, U.S. Department of Energy, is empowered to conduct the meeting in a fashion that will facilitate the orderly conduct of business. Individuals wishing to make public comment will be provided equal time to present their comments.

Minutes: The minutes of this meeting will be available for public review and copying at the Department of Energy's Freedom of Information Public Reading Room, 1E-190, Forrestal Building, 1000 Independence Avenue, SW., Washington, DC 20585 between 9 a.m. and 4 p.m., Monday through Friday, except Federal holidays. Minutes will also be available by writing to Ms. Peggy Hinman, INEEL Board Administrator, at the address and phone number listed above.

Issued at Washington, DC, on December 23, 2004.
Rachel Samuel,
Deputy Advisory Committee Management Officer.

[FR Doc. 04-28533 Filed 12-28-04; 8:45 am]

BILLING CODE 6450-01-P